FEDERAL EMERGENCY MANAGEMENT AGENCY

Agency Information Collection Activities: Submission for OMB Review; Comment Request

ACTION: Notice and request for comments.

SUMMARY: The Federal Emergency Management Agency has submitted the following proposed information collection to the Office of Management and Budget for review and clearance in accordance with the requirements of the Paperwork Reduction Act of 1995 (44 U.S.C. 3507).

Title: Effectiveness of a Community's Implementation of the NFIP, Community Assistance Contact (CAC) Report and Community Assistant Visit (CAV) Report.

Type of Information Collection: Revision of a currently approved collection.

OMB Number: 3067-0198.

Abstract: FEMA Form 81-69, Community Assistance Contact Report is used to document telephone contact or brief visit with NFIP communities to determine if program-related problems exist and offer assistance. FEMA Form 81-68, Community Assistance Visit Report is used to document scheduled visit to NFIP communities for the purpose of conducting a comprehensive assessment of the community's floodplain management program and to assist the community with NFIP and its requirements and implementing effective flood loss reduction. Community Assistance contacts and visits provide a systematic means of monitoring community compliance with the NFIP and evaluate the floodplain management assistance needed by communities and how well communities are performing their floodplain management responsibilities. FEMA can identify, prevent, and resolve floodplain management issues before they develop into problems requiring enforcement actions.

Affected Public: State, Local or Tribal Government, and Federal Government.

Number of Respondents: 5,000.

Estimated Time per Respondent: 3 hours for the Community Visit Report and 2 hours for the Community Contact Report.

Estimated Total Annual Burden Hours: 12,000 hours.

Frequency of Response: One per community.

Comments

Interested persons are invited to submit written comments on the proposed information collection to the Desk Officer for the Federal Emergency Management Agency, Office of Information and Regulatory Affairs, Office of Management and Budget, Washington, DC 20503 within 30 days of the date of this notice.

FOR FURTHER INFORMATION CONTACT: Requests for additional information or copies of the information collection should be made to Muriel B. Anderson, Chief, Records Management Section, Program Services and Systems Branch, Facilities Management and Services Division, Administration and Resource Planning Directorate, Federal Emergency Management Agency, 500 C Street, SW., Room 316, Washington, DC 20472, telephone number (202) 646-2625 or facsimile number (202) 646-3347, or e-mail InformationCollections@fema.gov.

Dated: September 3, 2002.
Muriel B. Anderson,
Acting Branch Chief, Program Services and Systems Branch, Facilities Management and Services Division, Administration and Resource Planning Directorate.

[FR Doc. 02-23298 Filed 9-12-02; 8:45 am]

BILLING CODE 6718-01-P